DEPARTMENT OF LABOR

Office of the Secretary

Agency Information Collection Activities; Submission for OMB Review; Comment Request; A Study of Customer Satisfaction With Five Office of Disability Employment Policy (ODEP) Technical Assistance (TA) Centers

AGENCY: Office of the Assistant Secretary for Policy, Chief Evaluation Office, Department of Labor.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act (PRA) of 1995 (PRA95) [44 U.S.C. 3506(c)(2)(A)]. This program helps to ensure that requested data can be provided in the desired format, reporting burden (time and financial resources) is minimized, collection instruments are clearly understood, and the impact of collection requirements on respondents is properly assessed.

Currently, the Department of Labor is soliciting comments concerning the collection of data for a study of customer satisfaction with five Office of Disability Employment Policy (ODEP) Technical Assistance (TA) Centers. A copy of the proposed Information Request (ICR) can be obtained by contacting the office listed in the addressee section of this notice.

DATES: Written comments must be submitted to the office listed in the addresses section below on or before August 14, 2017.

ADDRESSES: You may submit comments by either one of the following methods: Email: ChiefEvaluationOffice@dol.gov; Mail or Courier: Cherise Hunter, Chief Evaluation Office, U.S. Department of Labor, Room S-1303, 200 Constitution Avenue NW., Washington, DC 20210.

Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Cherise Hunter by email at ChiefEvaluationOffice@dol.gov.

SUPPLEMENTARY INFORMATION:

I. Background. The Chief Evaluation Office (CEO) of the U.S. Department of Labor in partnership with the Office of Disability Employment Policy (ODEP) seeks to examine customer satisfaction with ODEP TA Centers. ODEP established five TA Centers to serve a diverse set of purposes, functions, and customers. Operating with grants funded by ODEP, these Centers assist employers, federal agencies, state governments, non-profits, individuals with disabilities, and others with technical assistance and policy development concerning the integration of people with disabilities into employment. The overarching goals of the study are to determine the extent to which customers are satisfied with the TA provided by the Centers and to document the processes and methods used by the TA Centers to encourage the adoption and implementation of ODEP's policies and practices by targeted and untargeted customers. This study will answer research questions regarding how the TA Centers operate, the quality and utility of the services they provide, and the degree to which Center programs and services have led to the adoption and implementation of ODEP-recommended policies and practices, as perceived by customers. This Federal Register Notice provides the opportunity to comment on the four proposed data collection instruments that will be used in the study:

* The Pulse Survey. Customers with an available email address will receive an email invitation to complete a brief web survey approximately 48 hours following contact with a TA Center. This questionnaire will collect information on the customer's level of satisfaction with Center staff, the usefulness of the information obtained, their overall satisfaction with the interaction, and the likelihood they would recommend the Center to others.

* The In-Depth Survey. Frequent customers and customers who have ongoing relationships with the Centers will be contacted annually and invited to complete a more in-depth web survey to assess their overall satisfaction with the Centers. In addition to assessing satisfaction with Center staff, the Centers overall, and the utility of information obtained, the In-Depth Survey will delve into the utility of network and collaborative activities, the extent to which the TA was applied or implemented, and whether or not the customer adopted new policies or practices.

* Qualitative Interviews with Customers. Qualitative interviews will be conducted annually with a small sample of three types of customers—employers, government agencies, and community-based organizations—to assess the utility and implementation of TA and policy dissemination within specific settings of different organizations.

* Qualitative Interviews with Center Staff. Annual qualitative interviews with Center staff will collect information on their perspective on adoption and implementation of ODEP-recommended policies and practices.

II. Desired Focus of Comments. Currently, the Department of Labor is soliciting comments concerning the above data collection for a study of customer satisfaction with the five ODEP TA Centers. DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions. At this time, the Department of Labor is requesting clearance for data collection to assess customer satisfaction with five ODEP TA Centers via surveys with Center customers and qualitative interviews with Center customers and staff.

Type of Review: New information collection request.

OMB Control Number: XXXX-0NEW.

Estimated Total Burden Hours
Data collection activity | Total number of respondents | Number of responses per respondent | Total annual responses | Average burden hours per response | Total annual burden hours
Pulse Survey | 33,900 | 1 | 11,300 | .083 | 937.90
In-Depth Survey | 9,855 | 1 | 3,285 | .250 | 821.25
Qualitative Interviews with Customers | 72 | 1 | 24 | 1.000 | 24.00
Qualitative Interviews with Center staff | 30 | 1 | 10 | 1.000 | 10.00
Total | 43,857 |  | 14,619 |  | 1793.15

Affected Public: Customers and staff of the five ODEP TA Centers: The Employer Resource Network (EARN); the National Collaborative on Workforce and Disability for Youth (NCWD/Y); the Job Accommodation Network (JAN); the Partnership on Employment and Accessible Technology (PEAT); and the National Center on Leadership for the Employment and Economic Advancement of People with Disabilities (LEAD).

Form(s): Pulse Survey, In-Depth Survey, Qualitative Interview Discussion Guides.

Total Respondents: 43,857.

Annual Frequency: One time.

Comments submitted in response to this request will be summarized and/or included in the request for Office of Management and Budget approval of the information collection request; they will also become a matter of public record.

Dated: June 7, 2017.
Molly Irwin,
Chief Evaluation Officer, U.S. Department of Labor.

[FR Doc. 2017-12232 Filed 6-12-17; 8:45 am]

BILLING CODE 4510-HX-P